DEPARTMENT OF LABOR

Mine Safety and Health Administration

30 CFR Part 72

RIN 1219-AB18

Determination of Concentration of Respirable Coal Mine Dust; Correction

AGENCY: Mine Safety and Health Administration (MSHA), Labor.

ACTION: Proposed rule; correction.

SUMMARY: This document corrects typographical errors which appeared in the preamble to the joint proposed rule that announced that the Secretary of Labor and the Secretary of Health and Human Services (the Secretaries) would find in accordance with sections 101 (30 U.S.C. 811) and 202(f)(2) (30 U.S.C. 842(f)(2)) of the Federal Mine Safety and Health Act of 1977 that the average concentration of respirable dust to which each miner in the active workings of a coal mine is exposed can be accurately measured over a single shift. No corrections are being made to the regulatory text.

The joint proposal published in the Federal Register on July 7, 2000, would rescind a previous 1972 finding by the Secretaries on the validity of such single-shift sampling.

FOR FURTHER INFORMATION CONTACT: Carol J. Jones, Director, Office of Standards, Regulations, and Variances, MSHA; 703-235-1910.

Corrections

The proposed rule as published by the Federal Register contains typographical errors. This document provides information so that a reader may correct those errors. Please note: if you received a copy of the proposed rule from MSHA in the mail, some of the corrections have already been made. These are marked with an *.

In the proposed rule addressing determination of concentration of respirable coal mine dust, published in the Federal Register on July 7, 2000 (65 FR 42068), make the following corrections:

1. On page 42068, column one, line 42, change “1997” to read “1998”.

2. On page 42069, column three, line 53, change “1999” to read “proposed”.

3. On page 42079, column two, line 31, change “1n” to read “ln”.

4. On page 42094, column two, line 13 change “μ” to read “μg”.

5. On page 42094, column two, line 59, change “μg” to read “1,400 μg”.

6. On page 42094, column three, line 17, change “μ” to read “μm”.

7. On page 42096, column one, line 14, change “Appendix B” to read “Appendix C”.

8. On page 42097, column three, line 51, change “Appendix C” to read “Appendix D”.

9. On page 42098, column one, lines 11, 20 and 27, change “Appendix B” to read “ Appendix C”.

10. On page 42101, column three, line 40, change “December 1999” to read “June 2000.”

11.* On page 42112, column one, line 44, replace “Qe” with “σe”.

12.* On page 42113, column 2, line 3, replace, “will is” with “is”.

13. On page 42113, column three, line 19, and Table C-1, column one, line 23, replace “Tyvek,” with “Tyvek®”.

14.* On page 42118, column one, line 21, replace “of e” with “of σe”.

15.* On page 42119, column one, line 73, replace “equal to “2)” with “equal to √2)”.

Dated: July 20, 2000.
Carol J. Jones,
Director, Office of Standards, Regulations and Variances.

[FR Doc. 00-18813 Filed 7-21-00; 12:45 pm]

BILLING CODE 4510-43-P